SECURITIES AND EXCHANGE COMMISSION

Sunshine Act Meetings

TIME AND DATE: Notice is hereby given, pursuant to the provisions of the Government in the Sunshine Act, Public Law 94-409, the Securities and Exchange Commission will hold an Open Meeting on Wednesday, October 28, 2020, at 10:00 a.m.

PLACE: The meeting will be webcast on the Commission's website at www.sec.gov.

STATUS: This meeting will begin at 10:00 a.m. (ET) and will be open to the public via audio webcast only on the Commission's website at www.sec.gov.

MATTERS TO BE CONSIDERED: The Commission will consider whether to adopt rules and related amendments designed to provide an updated and more comprehensive approach to the regulation of funds' use of derivatives and other transactions while enhancing investor protections. The amendments the Commission will consider also would include new reporting requirements to enhance the Commission's ability to effectively oversee funds' use of derivatives. The Commission also will consider whether to rescind existing guidance and exemptive relief addressing derivatives and other transactions that would be covered by this new regulatory framework.

CONTACT PERSON FOR MORE INFORMATION: For further information and to ascertain what, if any, matters have been added, deleted or postponed, please contact Vanessa A. Countryman, Office of the Secretary, at (202) 551-5400.

Dated: October 21, 2020.
Vanessa A. Countryman,
Secretary.

[FR Doc. 2020-23706 Filed 10-22-20; 4:15 pm]

BILLING CODE 8011-01-P